DEPARTMENT OF ENERGY

Federal Energy Regulatory Commission

[Project No. 2000-010]

New York Power Authority; Notice Modifying a Restricted Service List for Comments on a Programmatic Agreement for Managing Properties Included in or Eligible for Inclusion in the National Register of Historic Places

August 2, 2001.

On April 14, 2000, the Federal Energy Regulatory Commission (Commission) issued a notice for the St. Lawrence-FDR Power Project (FERC No. 2000-010) proposing to establish a restricted service list for the purpose of developing and executing a Programmatic Agreement (PA) for managing properties included in or eligible for inclusion in the National Register of Historic Places. On June 5, 2000, the restricted service list was modified to include the Department of the Interior (Interior). The St. Lawrence-FDR Power Project is located on the St. Lawrence River, in St. Lawrence County, New York. The New York Power Authority is the licensee.

Rule 2010 of the Commission's Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established. The following changes to the existing restricted service list are noted.

¹ 18 CFR 385.2010.

The address for Mr. Thomas Tatham has changed. Delete “1633 Broadway, 22C, New York, NY 10019-6756” and replace with “123 Main Street, White Plains, NY 10601”.

The contact for the Saint Regis Mohawk Tribe has changed. Delete “Francis Jock” and replace with “Francis Boots”.

The contact for Interior has changed. Delete “Lydia T. Grimm” and replace with “Kimberly Owens”.

Delete “Robert Dean, Dean & Barbour, P.O. Box 176, Old Route 17, Steamburg, NY, 14783”.

As a result of these changes, the revised final restricted service list, for the purpose of commenting on the PA for the St. Lawrence-FDR Power Project, is as follows:

Dr. Robert Kuhn, NY Office of Parks, Recreation, and Historic Preservation, Peebles Island, P.O. Box 189, Waterford, NY, 12188-0189

Dr. Laura Henley Dean, Advisory Council on Historic Preservation, The Old Post Office Building, Suite 803, 1100 Pennsylvania Avenue, NW, Washington, DC 20004

William Slade, New York Power Authority, 123 Main Street, White Plains, NY 10601

Thomas Tatham, New York Power Authority, 123 Main Street, White Plains, NY 10601

Kevin Mendik, National Park Service, 15 State Street, Boston, MA 02109

Judith M. Stolfo, Department of the Interior, Office of the Regional Solicitor, One Gateway Center, Suite 612, Newton, MA 02458-2802

Malka Pattison, Department of the Interior, Bureau of Indian Affairs, 1849 C Street, NW, Mail Stop 4513, Washington, DC 20240

Francis Boots, THPO, Saint Regis Mohawk Tribe, 412 State Route 37, Hogansburg, NY 13655

Salli Benedict, Henry Lickers, Mohawk Council of Akwesasne, P.O. Box 579, Cornwall, Ontario K6H 5T3

Maxine Cole, Akwesasne Task Force on the Environment, P.O. Box 992, Hogansburg, NY 13655

David Blaha, Environmental Resources Management, 2666 Riva Road, Suite 200, Annapolis, MD 21401

James Teitt, Environmental Resources Management, 355 East Campus View Blvd, Suite 250, Columbus, OH 43235

Brian Skidders, Mohawk Nation Council of Chiefs, Box 366, Rooseveltown, NY 13683

Kimberly Owens, Department of the Interior, 1849 C Street, NW, Washington, DC 20240.

David P. Boergers,
Secretary.

[FR Doc. 01-19882 Filed 8-7-01; 8:45 am]

BILLING CODE 6717-01-P